DEPARTMENT OF COMMERCE

Foreign-Trade Zones Board

[S-125-2023]

Foreign-Trade Zone 37; Application for Subzone; Findlay's Tall Timbers Distribution Center LLC dba Southern Tier Logistics; Village of Horseheads, New York

An application has been submitted to the Foreign-Trade Zones (FTZ) Board by the County of Orange, grantee of FTZ 37, requesting subzone status for the facility of Findlay's Tall Timbers Distribution Center LLC dba Southern Tier Logistics (Southern Tier Logistics), located in the Village of Horseheads, New York. The application was submitted pursuant to the provisions of the Foreign-Trade Zones Act, as amended (19 U.S.C. 81a-81u), and the regulations of the FTZ Board (15 CFR part 400). It was formally docketed on July 17, 2023.

The proposed subzone (10.58 acres) is located at 120 Wygant Road, Village of Horseheads, New York. No authorization for production activity has been requested at this time. The proposed subzone would be subject to the existing activation limit of FTZ 37.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is August 30, 2023. Rebuttal comments in response to material submitted during the foregoing period may be submitted during the subsequent 15-day period to September 14, 2023.

A copy of the application will be available for public inspection in the “Online FTZ Information Section” section of the FTZ Board's website, which is accessible via www.trade.gov/ftz.

For further information, contact Juanita Chen at juanita.chen@trade.gov.

Dated: July 17, 2023.
Elizabeth Whiteman,
Executive Secretary.

[FR Doc. 2023-15470 Filed 7-20-23; 8:45 am]

BILLING CODE 3510-DS-P